SECURITIES AND EXCHANGE COMMISSION

[Release No. 34-44483A; File No. SR-Amex-2001-40]

Self-Regulatory Organizations; Notice of Filing and Order Granting Accelerated Approval of Proposed Rule Change by American Stock Exchange LLC Relating to the Listing and Trading of Institutional Index Notes; Correction

August 30, 2001.

Release No. 34-44483, issued on June 27, 2001, and published in the Federal Register on July 6, 2001,¹ contained an error in Part IV.² The term “Industrial Holdings” was mistakenly used. The correct term is “Institutional Holdings.”

¹ See 66 FR 35677.

² See 66 FR 35677, 35680.

Accordingly, the term “Institutional Holdings” should replace the term “Industrial Holdings” in Part IV of the Release.

For the Commission, by the Division of Market Regulation, pursuant to delegated authority.³
³ 17 CFR 200.30-3(a)(12).
Margaret H. McFarland,
Deputy Secretary.

[FR Doc. 01-22511 Filed 9-6-01; 8:45 am]

BILLING CODE 8010-01-M